COMMISSION ON CIVIL RIGHTS

Notice of Public Meeting of the Indiana Advisory Committee for a Meeting To Discuss Civil Rights Issues in the State and Plan Future Activities

AGENCY: U.S. Commission on Civil Rights.

ACTION: Notice of meeting.

SUMMARY: Notice is hereby given, pursuant to the provisions of the rules and regulations of the U.S. Commission on Civil Rights (Commission) and the Federal Advisory Committee Act that the Indiana Advisory Committee (Committee) will hold a meeting on Thursday, March 19, 2015, for the purpose of discussing current civil rights issues in Indiana and determining plans for the next Committee project. Members of the Advisory Committee will be presenting issues that they believe the Committee should research and issue a report to the Commission.

Members of the public are invited to make statements into the record at the meeting starting at 2:50 p.m. Member of the public are also entitled to submit written comments; the comments must be received in the regional office by April 19, 2015. Written comments may be mailed to the Midwestern Regional Office, U.S. Commission on Civil Rights, 55 W. Monroe St., Suite 410, Chicago, IL 60603. They may also be faxed to the Commission at (312) 353-8324, or emailed to Administrative Assistant, Carolyn Allen at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Indiana Advisory Committee link. Persons interested in the work of this Committee are directed to the Commission's Web site, http://www.usccr.gov, or may contact the Midwestern Regional Office at the above email or street address.

Agenda:

Welcome and Introductions

1:00 p.m. to 1:15 p.m.

B. Diane Clements Boyd, Chair

Discussion of Current Civil Rights Issues in Indiana

1:15 p.m. to 2:15 p.m.

Indiana Advisory Committee Members

Future plans and actions

2:15 p.m. to 2:30 p.m.

Open Comment

2:30 p.m.

Adjournment

3:00 p.m.

DATES: The meeting will be held on Thursday, March 19, 2015, at 1:00 p.m.

ADDRESSES: The meeting will be held at the Indiana Government Conference Center, 302 West Washington Street, Conference Room D, Indianapolis, IN 46204.

Dated: January 27, 2015.
David Mussatt,
Chief, Regional Programs Unit.

[FR Doc. 2015-02043 Filed 2-2-15; 8:45 am]

BILLING CODE 6335-01-P